DEPARTMENT OF TRANSPORTATION

Federal Aviation Administration

Sixth Meeting: RTCA Special Committee (232) Airborne Selective Calling Equipment

AGENCY: Federal Aviation Administration (FAA), U.S. Department of Transportation (DOT).

ACTION: Notice of sixth RTCA Special Committee 232 meeting.

SUMMARY: The FAA is issuing this notice to advise the public of the Sixth RTCA Special Committee 232 meeting.

DATES: The meeting will be held January 26-27, 2016 from 9:00 a.m.-5:00 p.m.

ADDRESSES: The meeting will be held at RTCA, Inc., 1150 18th Street NW., Suite 910, Washington, DC 20036, Tel: (202) 330-0654.

FOR FURTHER INFORMATION CONTACT: The RTCA Secretariat, 1150 18th Street NW., Suite 910, Washington, DC 20036, or by telephone at (202) 833-9339, fax at (202) 833-9434, or Web site at http://www.rtca.org or Harold Moses, Program Director, RTCA, Inc., hmoses@rtca.org, (202) 330-0654.

SUPPLEMENTARY INFORMATION: Pursuant to section 10(a)(2) of the Federal Advisory Committee Act (Pub. L. 92-463, 5 U.S.C., App.), notice is hereby given for a meeting of RTCA Special Committee 232. The agenda will include the following:

Tuesday-Wednesday, January 26-27, 2016

1. Welcome/Introductions/Administrative Remarks

2. Agenda Overview

3. Review/Approval of Minutes from Plenary #5

4. Status of Other SELCAL Industry Activities/Committees

5. Review of Selective Calling (SELCAL) Action Items

6. Review/Approval of Draft MOPS for Airborne Selective Calling Equipment

7. Other Business

8. Date and Place of Next Meetings

9. Adjourn

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on January 11, 2016.
Latasha Robinson,
Management & Program Analyst, NextGen, Enterprise Support Services Division Federal Aviation Administration.

[FR Doc. 2016-00623 Filed 1-13-16; 8:45 am]

BILLING CODE 4910-13-P